DEPARTMENT OF TRANSPORTATION

Research and Special Programs Administration

Office of Hazardous Materials Safety; Notice of Application for Exemptions

AGENCY: Research and Special Programs Administration, DOT.

ACTION: List of applications for exemption.

SUMMARY: In accordance with the procedures governing the application for, and the processing of, exemptions from the Department of Transportation's Hazardous Material Regulations (49 CFR part 107, subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before January 12, 2005.

Addresses Comments to: Record Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington DC, or at http://dms.dot.gov.

This notice of receipt of applications for modification of exemption is published in accordance with part 107 of the Federal hazardous materials transportation law (49 U.S.C. 5117(b); 49 CFR 1.53(b)).

Issued in Washington, DC, on December 6, 2004.
R. Ryan Posten,
Exemptions Program Officer, Office of Hazardous Materials Safety Exemptions & Approvals.

New Exemption
Application No. | Docket No. | Applicant | Regulation(s) affected | Nature of exemption thereof
14036-N |  | Roche Diagnostics Corporation Indianapolis, IN | 49 CFR 173.56(b); (e)(3); (e)(4) and (i) | To authorize the transportation in commerce of unapproved Class 1 explosive materials in PG I performance level UN Standard packing. (mode 1).
14037-N |  | Air Products and Chemicals, Inc. Allentown, PA | 49 CFR 173.301(f)(3); 180.205(c)(4) | To authorize the transportation in commerce of hydrogen chloride, anhydrous in DOT specification seamless steel cylinders equipped with CG-4 pressure relief devices set at 3,360 psig. (modes 1, 2, 3).
14038-N |  | Dow Chemical Company Midland, MI | 49 CFR 172.203(a), 173.26 and 179.13 | To authorize the transportation in commerce of Class 8 hazardous materials in DOT specification 111A100W6 tank car tanks that exceed the maximum allowable gross weight on rail (263,000 lbs.). (mode 2).
14039-N |  | Chlorine Service Company Kingwood, TX | 49 CFR 178.245-1(a) | To authorize the manufacture, marking, sale and use of certain DOT Specification 51 steel portable tanks or UN steel portable tanks conforming with Section VIII, Division 2 of the ASME Code instead of Section VIII, Division 1, for the transportation in commerce of Division 2.1 and 2.2 materials. (modes 1, 2, 3).
14040-N |  | Clean Harbors Environmental Services, Inc. San Diego, CA | 49 CFR 173.304(d) | To authorize the one-time transportation in commerce of foreign cylinders for disposal. (mode 1).

[FR Doc. 04-27228 Filed 12-10-04; 8:45 am]

BILLING CODE 4909-60-M